SMALL BUSINESS ADMINISTRATION

[Disaster Declaration # 10597 and # 10598]

New Mexico Disaster # NM-00004

AGENCY: U.S. Small Business Administration.

ACTION: Notice.

SUMMARY: This is a Notice of the Presidential declaration of a major disaster for the State of New Mexico (FEMA-1659-DR), dated 08/30/2006.

Incident: Severe Storms and Flooding.

Incident Period: 07/26/2006 and continuing.

Effective Date: 08/30/2006.

Physical Loan Application Deadline Date: 10/30/2006.

Economic Injury (Eidl) Loan Application Deadline Date: 05/30/2007.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/30/2006, applications for disaster loans may be filed at the address listed above or other locally announced locations.

The following areas have been determined to be adversely affected by the disaster:

Primary Counties (Physical Damage and Economic Injury Loans): Dona Ana.

Contiguous Counties (Economic Injury Loans Only): New Mexico: Luna, Otero, Sierra.Texas: El Paso.

The Interest Rates are:

| Percent
For Physical Damage:
Homeowners with credit available elsewhere | 6.250
Homeowners without credit available elsewhere | 3.125
Businesses with credit available elsewhere | 7.934
Other (including non-profit organizations) with credit available elsewhere | 5.000
Businesses and non-profit organizations without credit available elsewhere | 4.000
For Economic Injury:
Businesses & small agricultural cooperatives without credit available elsewhere | 4.000

The number assigned to this disaster for physical damage is 10597 6 and for economic injury is 10598 0.

(Catalog of Federal Domestic Assistance Numbers 59002 and 59008)

Herbert L. Mitchell,
Associate Administrator for Disaster Assistance.

[FR Doc. E6-14778 Filed 9-6-06; 8:45 am]

BILLING CODE 8025-01-P